DEPARTMENT OF THE TREASURY

Submission for OMB Review; Comment Request

November 29, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before January 5, 2001 to be assured of consideration.

INTERNAL REVENUE SERVICE (IRS)

OMB Number: 1545-0951.

Form Number: IRS Forms 5434 and 5434-A.

Type of Review: Extension.

Title: Application for Enrollment (Form 5434); and Application for Renewal of Enrollment (Form 5434-A).

Description: The information relates to the granting of enrollment status to actuaries admitted (licensed) by the Joint Board for the Enrollment of Actuaries to perform actuarial services under the Employee Retirement Income Security Act of 1974.

Respondents: Individuals or households.

Estimated Number of Respondents/Recordkeepers: 6,000.

Estimated Burden Hours Per Respondent/Recordkeeper: 38 minutes.

Frequency of Response: Other (once every 3 years).

Estimated Total Reporting/Recordkeeping Burden: 3,800 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-30969 Filed 12-5-00; 8:45 am]

BILLING CODE 4830-01-P